DEPARTMENT OF COMMERCE

National Institute of Standards and Technology

[Docket Number: 140305199-4199-01]

Notice of Intent To Terminate Selected National Voluntary Conformity Assessment Systems Evaluation (NVCASE) Program Services

AGENCY: National Institute of Standards and Technology (NIST), Commerce.

ACTION: Notice; request for comments.

SUMMARY: The National Institute of Standards and Technology (NIST) announces its intent to terminate the Organic Production and Processing sub-program offered by NIST's National Voluntary Conformity Assessment Systems Evaluation (NVCASE) program, effective January 1, 2016.

NIST requests written comments on the intended termination of the Organic Production and Processing sub-program offered by NVCASE, and announces a 30-day comment period for that purpose. Persons desiring to comment on the proposed termination must submit their comments in writing to the address provided in the ADDRESSES section of this notice.

DATES: Comments regarding the proposed January 1, 2016, termination of the NVCASE Organic Production and Processing sub-program must be received no later than May 15, 2014.

ADDRESSES: Submit written comments to NVCASE Program Manager, National Voluntary Conformity Assessment Systems Evaluation Program, National Institute of Standards and Technology, 100 Bureau Drive, Stop 2100, Gaithersburg, MD 20899-2100, or by email to ramona.saar@nist.gov.

FOR FURTHER INFORMATION CONTACT: Ramona Saar, National Institute of Standards and Technology, 100 Bureau Drive, Stop 2100, Gaithersburg, MD 20899-2100, email to ramona.saar@nist.gov, or phone 301-975-5521.

SUPPLEMENTARY INFORMATION: The National Institute of Standards and Technology (NIST) administers the National Voluntary Conformity Assessment Systems Evaluation (NVCASE) program under regulations found in Part 286 of Title 15 of the Code of Federal Regulations.

Under the NVCASE program NIST evaluates U.S.-based conformity assessment bodies in order to be able to provide assurances to a foreign government that qualifying bodies meet that government's requirements and can provide results that are acceptable to that government. The program is intended to provide a technically-based U.S. approval process for U.S. industry to gain foreign market access.

On December 6, 2002, NIST received a request from a U.S. accreditation body to establish a sub-program, under the NVCASE program, for Organic Production and Processing. The stated objectives of the request were to provide confidence in the quality of this accreditation body's work, and to provide assurance that this accreditation body complied with the requirements of some foreign governments, thus facilitating the export of U.S. products.

NIST, having determined that there was no satisfactory recognition alternative available and that there was evidence that significant public disadvantage would result from the absence of any alternative, established the NVCASE sub-program for Organic Production and Processing on November 4, 2003, following a public workshop held on May 9, 2003. See, 68 FR 62434 (November 4, 2003).

In the decade since the establishment of the sub-program, the United States has made numerous trade arrangements to facilitate the international trade of organic products. The resulting changes in the international requirements have increased international market access for U.S. producers. NIST considers that there are now suitable alternative paths to foreign market access, and that there would be no significant public disadvantage to terminating the Organic Production and Processing sub-program.

Accordingly, the NIST NVCASE program announces its intent to cease to grant or renew recognition under the Organic Production and Processing sub-program, effective January 1, 2016. Conformity assessment bodies currently recognized under the sub-program will remain recognized until January 1, 2016, provided they continue to meet program requirements. The NVCASE program is inviting the submission of written comments on its announcement as set forth in the DATES and ADDRESSES sections of this notice.

Following the comment period, NVCASE will make a final determination on terminating the sub-program, which will be published in the Federal Register.

Dated: April 9, 2014.
Kevin A. Kimball,
Chief of Staff.

[FR Doc. 2014-08506 Filed 4-14-14; 8:45 am]

BILLING CODE 3510-13-P